DEPARTMENT OF THE INTERIOR

National Park Service

60 Day Notice of Intention To Request for Clearance of Information Collection, Special Park Use Application Forms, Opportunity for Public Comment

AGENCY: National Park Service, Department of the Interior.

ACTION: Notice and request for comments.

SUMMARY: Under the provisions of the Paperwork Reduction Act of 1995 (Pub. L. 104-14, 44 U.S.C. 3507 and 5 CFR part 1320, Reporting and Record Keeping Requirements), the National Park Service (NPS) invites public comment on a request for renewal for the information collection requirements. The NPS seeks comments on the necessity for this information collection, the accuracy of our burden estimates, ways to enhance the quality, utility and clarity of the information to be collected and alternative methods of collection to minimize burden and improve service to the public, including the use of automated information collection techniques or other forms of information technology. These information collections are associated with permits implementing provisions of the agency regulations pertaining to the use of public lands. The application forms are up for renewal. The forms have been modified slightly and are the subject of this request for comments.

DATES: Written comments must be submitted on or before May 6, 2003.

ADDRESSES: Comments should be addressed to Lee Dickinson, National Park Service, 1849 C Street, NW. (org. code 2460), Washington, DC 20240. All responses to this notice will be summarized and included in the request for OMB renewal of the forms, as modified. All comments will become a matter of public record. Copies of the above mentioned draft forms may be obtained from the Internet at http://www.nps.gov/policy/Dorders/Permitform.pdf or by contacting Lee Dickinson.

FOR FURTHER INFORMATION CONTACT: Lee Dickinson, Ranger Activities Division, National Park Service, at telephone 202-513-7092, or by e-mail at lee_dickinson@nps.gov.

SUPPLEMENTARY INFORMATION: There are three (3) collection information forms up for renewal.

Title: Application for Special Use Permit (10-930); Application for Photography/Filming Permit—Short Form (10-931); Application for Photography/Filming Permit—Long Form (10-932).

OMB Number: 1024-0026.

Expiration Date of Approval: September 30, 2003.

Type of Request: Extension of and revision to currently approved information collection.

Abstract: The National Park Service's legislative mandate is to preserve America's natural and cultural treasures unimpaired for future generations, while also making them available for the enjoyment of the visitor (16 U.S.C. 1). NPS regulations, codified at title 36 code of Federal Regulations, are promulgated to allow for the enjoyment and use of the resource by the public while protecting the resource. These forms are intended to gather sufficient information to enable park managers to be able to approve or deny the requested uses of public lands authorized in 36 CFR and, if approved, to provide sufficient conditions to protect park lands from impairment or derogation of the resources, values and purposes for which the park was created. The uses considered under these information collection applications generally include those which regulate or limit those activities not available to the public at large, such as special events, commercial filming, and grazing in parks where such activity is authorized by law.

Respondents: Individuals, not-for-profit institution, for profit businesses.

Estimated annual burden on respondents: 11,150 hours.

Estimated average burden hours per response: .6 hours.

Estimated average number of respondents: 18,600 annually.

Estimated frequency of response: 18,600 annually.

Leonard E. Stowe,
Acting Information Collection Clearance Officer, National Park Service, WAPC.

[FR Doc. 03-5499 Filed 3-6-03; 8:45 am]

BILLING CODE 4310-70-M